DEPARTMENT OF HEALTH AND HUMAN SERVICES

Health Resources and Services Administration

Agency Information Collection Activities: Proposed Collection: Public Comment Request; Information Collection Request Title: Behavioral Health Integration Evidence Based Telehealth Network Program Integration Telehealth Evidence Collection Tool, OMB No. 0906-xxxx—New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than November 24, 2025.

ADDRESSES: Submit your comments to paperwork@hrsa.gov or mail the HRSA Information Collection Clearance Officer, Room 14NWH04, 5600 Fishers Lane, Rockville, Maryland, 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Behavioral Health Integration Evidence Based Telehealth Network Program Integration Telehealth Evidence Collection Tool, OMB No. 0906-xxxx—New.

Abstract: This clearance request is for OMB approval of a new information collection, the Behavioral Health Integration Evidence Based Telehealth Network Program (BHI EB-TNP) Integration Telehealth Evidence Collection Tool. Under the BHI EB-TNP, HRSA administers grants in accordance with section 330I(d)(1) of the Public Health Service Act (42 U.S.C. 254c-14(d)(1)). The purpose of the BHI EP-TNP program is to integrate behavioral health services into primary care settings using telehealth technology through telehealth networks and evaluate the effectiveness of such integration. This program supports evidence-based projects that utilize telehealth technologies through telehealth networks in rural and underserved areas to: (1) improve access to integrated behavioral health services in primary care settings, and (2) expand and improve the quality of health information available to health care providers by evaluating the effectiveness of integrating telebehavioral health services into primary care settings and establishing an evidence-based model that can assist health care providers.

HRSA collaborated with grantees in the development of a set of outcome measures to evaluate the effectiveness of grantees' telebehavioral services and monitor grantees' progress/effectiveness by analyzing performance reporting data. The measures address behavioral health and substance use disorder priorities and will help to assess the effectiveness of evidence-based practices with the use of telehealth for patients, providers, and payers. The data collection instrument will include 27 total data elements addressing patient encounter information.

Need and Proposed Use of the Information: HRSA developed the BHI EB-TNP instrument with the program's four goals in mind:

(1) Improving access to the behavioral health services needed,

(2) Reducing rural and underserved population practitioner isolation,

(3) Improving health system productivity and efficiency, and

(4) Improving patient outcomes.

HRSA worked with program grantees to develop outcome measures to evaluate and monitor the progress of the grantees in each of these categories, with specific indicators to be reported annually through a performance monitoring data collection platform/website. Measures capture awardee-level and aggregate data that illustrate the impact and scope of program funding along with assessing these efforts. The measures are intended to inform HRSA's progress toward meeting program goals, specifically improving access to telebehavioral health services that support primary care providers.

Likely Respondents: BHI EB-TNP grantees.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
BHI EB-TNP Outcome Measurement Report | 27 | 1 | 27 | 69 | 1,863
Total | 27 |  | 27 |  | 1,863

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-18397 Filed 9-22-25; 8:45 am]

BILLING CODE 4165-15-P